DEPARTMENT OF LABOR

Employment and Training Administration

[TA-W-55,175]

Levi Strauss and Company, Knoxville Area Office, Knoxville, TN; Notice of Negative Determination Regarding Application for Reconsideration

By application dated August 27, 2004, a petitioner requested administrative reconsideration of the Department's negative determination regarding eligibility for workers and former workers of the subject firm to apply for Trade Adjustment Assistance (TAA) and Alternative Trade Adjustment Assistance (ATAA). The denial notice applicable to workers of Levi Strauss and Company, Knoxville Area Office, Knoxville, Tennessee was signed on July 27, 2004, and published in the Federal Register on August 10, 2004 (69 FR 48530).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a mis-interpretation of facts or of the law justified reconsideration of the decision.

The TAA/ATAA petition was denied because the petitioning workers did not produce an article within the meaning of Section 222 of the Act. The Department determined that the subject worker group process sales orders.

In the request for reconsideration, the petitioners contend that the Department erred in its interpretation of the work performed at the subject facility. The petitioners state that the subject worker group does not process sales orders, but instead work in the subject company's Product Integrity Raw Material Quality Division and the Technical Services portion of the Customer Fulfillment Division.

The petitioners also describe several functions performed by the subject worker group: processing and resolving all production fabric rejections; processing color standards; ensuring that the various color expectations of customers are met; establishing perimeters for all fabrics and finished garments produced in the United States, Latin America and Asia; developing pressing specifications and procedures; executing seasonal training; testing new fabrics and products; and ensuring fabric quality.

The petitioners contend that the subject worker group does in fact support a qualifying production facility, specifically Levi Strauss and Company, Powell, Tennessee, and their separations were the result of that closure. A certification regarding eligibility to apply worker adjustment assistance, applicable to workers of the Powell, Tennessee location of Levi Strauss and Company was issued on July 10, 2002 and expired on July 10, 2004, petition number TA-W-41,377B.

While the Department may have erred in identifying the subject worker group, the petitioning worker group does not meet the criteria set forth in the Trade Act because the workers do not produce an article and did not support a domestic production facility during the relevant time period.

Non-production workers may be certified if the work they perform support a firm or an appropriate subdivision of a firm that produced an article domestically during the twelve-month period preceding the date of the petition. In the case at hand, the petition date is April 15, 2004. Therefore, because no production occurred at Levi Strauss and Company, Powell, Tennessee, between April 15, 2003 and April 15, 2004, the workers of Levi Strauss and Company, Knoxville Area Office, Knoxville, Tennessee did not support a qualifying production facility.

Conclusion

After review of the application and investigative findings, I conclude that there has been no error or misinterpretation of the law or of the facts which would justify reconsideration of the Department of Labor's prior decision. Accordingly, the application is denied.

Signed at Washington, DC, this 17th day of September, 2004.
Linda G. Poole,
Certifying Officer, Division of Trade Adjustment Assistance.

[FR Doc. E4-2547 Filed 10-7-04; 8:45 am]

BILLING CODE 4510-30-P